BROADCASTING BOARD OF GOVERNORS

Government in the Sunshine Act Meeting Notice

DATE AND TIME: Thursday, October 11, 2012, 1:15 p.m. EDT.

PLACE: Cohen Building, Room 3321, 330 Independence Ave. SW., Washington, DC 20237.

SUBJECT: Notice of Meeting of the Broadcasting Board of Governors.

SUMMARY: The Broadcasting Board of Governors (BBG) will be meeting at the time and location listed above. At the meeting, the BBG will recognize the David Burke Distinguished Journalism Awards winners. The BBG will receive and consider proposed BBG meeting dates in 2013 and consider a resolution honoring an employee for his service. The BBG will recognize the anniversaries of Agency language services, receive a Middle East trip report, receive a distribution/technology initiatives update, receive a budget update, and receive reports from the International Broadcasting Bureau Director, the Technology, Services and Innovation Director, the Communications and External Affairs Director, the VOA Director, the Office of Cuba Broadcasting Director, and the Presidents of Radio Free Europe/Radio Liberty, Radio Free Asia, and the Middle East Broadcasting Networks.

The public may attend this meeting in person at BBG headquarters in DC as seating capacity allows. Member of the public seeking to attend the meeting in person must register at http://bbgboardmeetingoct2012.eventbrite.com by 12 p.m. (EDT) on October 10. For more information, please contact BBG Public Affairs at (202) 203-4400 or by email at pubaff@bbg.gov. This meeting will also be available for public observation via streamed webcast, both live and on-demand, on the BBG's public Web site at www.bbg.gov. The public is advised to check the Web site for updated information on the starting time of the meeting.

CONTACT PERSON FOR MORE INFORMATION: Persons interested in obtaining more information should contact Paul Kollmer-Dorsey at (202) 203-4545.

Paul Kollmer-Dorsey,
Deputy General Counsel.

[FR Doc. 2012-24909 Filed 10-4-12; 4:15 pm]

BILLING CODE 8610-01-P